DEPARTMENT OF LABOR

Employment and Training Administration

Agency Information Collection Activities; Comment Request; Agricultural Clearance Order

ACTION: Notice.

SUMMARY: The Department of Labor's (DOL) Employment and Training Administration (ETA) is soliciting comments concerning a proposed authority to conduct the information collection request (ICR) titled, “Agricultural Clearance Order.” This comment request is part of continuing Departmental efforts to reduce paperwork and respondent burden in accordance with the Paperwork Reduction Act of 1995 (PRA).

DATES: Consideration will be given to all written comments received by May 14, 2019.

ADDRESSES: Comments submitted in response to this notice should be submitted electronically at nma@dol.gov or via postal mail, commercial delivery, or hand delivery. A copy of this ICR with applicable supporting documentation, including a description of the likely respondents, proposed frequency of response, and estimated total burden, may be obtained free by contacting Juan M. Regalado by telephone at 415-625-7904 (this is not a toll-free number), TTY by calling the toll-free Federal Information Relay Service at 1-877-889-5627 (TTY/TDD) (this is a toll-free number), or by email at regalado.juan@dol.gov.

Submit written comments about or requests for a copy of this ICR by mail or courier to the U.S. Department of Labor, Office of Workforce Investment, Room C-4510, Employment and Training Administration, U.S. Department of Labor, 200 Constitution Avenue NW, Washington, DC 20210, by email at nma@dol.gov, or by Fax 202-693-3981.

FOR FURTHER INFORMATION CONTACT: Contact Juan M. Regalado by telephone at 415-625-7904 (this is not a toll-free number) or by email at regalado.juan@dol.gov.

SUPPLEMENTARY INFORMATION: DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

In accordance with the authority of the Paperwork Reduction Act of 1995 [44 U.S.C. 3506(c)(2)(A)] (PRA), DOL continues its efforts to reduce paperwork and respondent burden. The Workforce Innovation and Opportunity Act (WIOA) Final Rule section containing information collection approved under this control number is found at: 20 CFR 653 Subpart F—Agricultural Recruitment System for U.S. Workers (ARS).

Under this ICR, ETA is proposing a new Agricultural Clearance Order Form, ETA Form 790B, which will be attached to the Agricultural Clearance Order Form, ETA Form 790 (currently undergoing public comment—see OMB Control Number 1205-0466). Only employers who are submitting clearance orders requesting U.S. workers for temporary agricultural jobs will fill out the ETA Form 790B.

Although ETA Form 790 is undergoing public comment, ETA is including the estimated burden to the public for the completion of ETA Form 790 in addition to the estimated burden for the ETA Form 790B, because employers would fill out both forms.

This ICR requests a change of responses per year, from 9,356 to 1,800, because most of the 790s and 790As are completed by employers participating in the H-2A program; the responses to those forms are covered under OMB Approval package #1205-0466.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0134.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: Agricultural Clearance Order.

Form: ETA Form 790, and ETA Form 790B.

OMB Control Number: 1205-0134.

Affected Public: Agricultural employers, State Workforce Agency, Agricultural workers.

Estimated Number of Respondents: 900 for ETA Form 790, and 900 for ETA Form 790B.

Frequency: Occasional.

Total Estimated Annual Responses: 900 for ETA Form 790, and 900 for ETA form ETA Form 790B.

Estimated Average: Time per Response: 20 minutes for ETA Form 790, and 100 minutes for ETA Form 790B.

Estimated Total Annual Burden Hours: 3,150 hours.

Total Estimated Annual Other Cost Burden: $0.

Molly E. Conway,
Acting Assistant Secretary for Employment and Training.

[FR Doc. 2019-04807 Filed 3-14-19; 8:45 am]

BILLING CODE 4510-FN-P